DEPARTMENT OF ENERGY

Federal Energy Regulatory Commission

[Docket No. RP01-173-000]

Questar Pipeline Company; Notice of Tariff Filing

December 12, 2000.

Take notice that on December 5, 2000, Questar Pipeline Company (Questar) tendered for filing as part of its FERC Gas Tariff, First Revised Volume No. 1, the following tariff sheets to be effective December 22, 2000.

Sixth Revised Sheet No. 51

Fifth Revised Sheet No. 52

Second Revised Sheet No. 52A

Third Revised Sheet No. 55

Fourth Revised Sheet No.56

First Revised Sheet No. 56A

Fourth Revised Sheet No. 73

Second Revised Sheet No. 73A

Questar stated that the purpose of this filing is to, at customers request, simplify the process used in bidding for unsold capacity on Questar's pipeline system.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

Davis P. Boergers,
Secretary.

[FR Doc. 00-32077 Filed 12-15-00; 8:45 am]

BILLING CODE 6717-01-M